DEPARTMENT OF COMMERCE

Minority Business Development Agency

[Docket No. 0007242218-4055-09]

Solicitation of Applications for the Native American Business Development Center (NABDC) Program

AGENCY: Minority Business Development Agency.

ACTION: Notice.

SUMMARY: The Minority Business Development Agency is revising the announcement soliciting competitive applications to operate its Native American Development Center (NABDC) Program published on Wednesday, February 11, 2004 (69 FR 6644). The original solicitation is amended to correct the funding level of the Minnesota/Iowa NABDC.

DATES: The closing date for applications for each NABDC project is March 12, 2004.

MBDA anticipates that awards for the NABDC program will be made with a start date of April 1, 2004. Completed applications for the NABDC program must be (1) mailed (USPS postmark) to the address below; or (2) received by MBDA no later than 5 p.m. Eastern Standard Time. Applications postmarked later than the closing date or received after the closing date and time will not be considered.

ADDRESSES: Applicants must submit one signed original plus two (2) copies of the application. Completed application packages must be submitted to: Office of Business Development, Native American Business Development Center Program Office, Office of Executive Secretariat, HCHB, Room 5063, Minority Business Development Agency, U.S. Department of Commerce, 14th Street and Constitution Avenue, NW., Washington, DC 20230.

If the application is hand-delivered by the applicant or his/her representative, one signed original plus two (2) copies of the application must be delivered to Room 1874, which is located at Entrance #10, 15th Street, NW., between Pennsylvania and Constitution Avenues.

FOR FURTHER INFORMATION CONTACT: For further information, contact the MBDA National Enterprise Center (NEC) for the geographic service area in which the project will be located or visit MBDA's Minority Business Internet Portal (MBDA Portal) at http://www.mbda.gov.

SUPPLEMENTARY INFORMATION: The Minority Business Development Agency revises its announcement soliciting competitive applications to operate its Native American Development Center (NABDC) Program published on Wednesday, February 11, 2004 (69 FR 6644) to provide clarification concerning the total Federal amount for the two (2) remaining 12-month funding periods from January 1, 2005 to December 31, 2006, is estimated at $300,000.

On page 6645 of the Federal Register notice, the total Federal amount available for the operation of the Minnesota/Iowa NABDC was incorrectly stated. The total Federal amount should be $160,000 for operation of the Minnesota/Iowa NABDC.

All other provisions in the original solicitation published on Wednesday, February 11, 2004 (69 FR 6644) remain the same.

Dated: February 12, 2004.
Juanita E. Berry,
Federal Register Liaison, Minority Business Development Agency.

[FR Doc. 04-3530 Filed 2-18-04; 8:45 am]

BILLING CODE 3510-21-P